DEPARTMENT OF HEALTH AND HUMAN SERVICES

Administration for Community Living

Intent To Award a Single-Source Supplement To Provide the National Aging Network With Timely, Relevant, High-Quality Opportunities To Further Enhance Training and Technical Assistance, Visibility, and Cultural Adaptions Related to Chronic Disease Self-Management Education (CDSME) Programs

ACTION: Notice.

SUMMARY: The Administration for Community Living (ACL) announces the intent to award a single-source supplement to the current cooperative agreement held by the National Council on Aging (NCOA) for the Chronic Disease Self-Management Education (CDSME) Resource Center. The purpose of this program is to leverage and expand upon chronic disease self-management education efforts across the nation; work collaboratively in partnership with the aging and disability network and other stakeholders to advance the development of technical assistance, education, and resources to increase public awareness about chronic disease self-management tools to better manage chronic conditions like diabetes, chronic pain, arthritis and depression; increase the number of older adults and adults with disabilities who participate in evidence-based CDSME and self-management support programs; and support the integration and sustainability of evidence-based CDSME and self-management support programs within community integrated health networks.

FOR FURTHER INFORMATION CONTACT: For further information or comments regarding this program supplement, contact Lesha Spencer-Brown, U.S. Department of Health and Human Services, Administration for Community Living, Administration on Aging, Office of Nutrition and Health Promotion Programs, [202-795-7331], email Lesha.Spencer-Brown@acl.hhs.gov.

SUPPLEMENTARY INFORMATION: The purpose of this supplement is to:

• Support enhanced training and technical assistance for CDSME program capacity building and delivery infrastructure through the update and development of evergreen evidence-based training materials and other resources based on needs and gaps identified from the grantees and the network; engagement of individuals from the field to establish cross-sector advisory panels that will advise on the development of best practices and frameworks for evidence-based program adaptation and effective delivery in underserved communities; facilitation of a mini grantee meeting that will offer intensive workshops on capacity building, program delivery and sustainability; further development of evidence-based program providers through a peer mentoring program; and enhance existing sustainability tools to assist the network in strategic planning activities that will lead to enhanced program sustainability.

• Augment marketing resources to include development and fielding of an assessment to better understand capacities, needs and opportunities around marketing; translation of existing and new resources into different languages; development of tip sheets and best practices guides around messaging and platforms for effective dissemination of program benefits and availability; and creation of materials and messaging that can be easily adapted by the network for their own use in increasing awareness about the CDSME programs and recruiting program participants in their communities.

• Improve the visibility of CDSME program data through a public facing interactive dashboard of national-level data that can be used for various purposes by the network; infographics describing CDSME grantee efforts and accomplishments (e.g., reach, cost savings, program outcomes); and a webinar series that will focus on program forecasting, reach and growth across the country, quality improvement, and best practices for data integration.

• Advance action steps in the “Call to Action to Improve Cultural Relevance and Accessibility: Evidence-Based Programs among American Indian, Alaska native and Native Hawaiian Communities” by working with researchers to operationalize several of the recommendations including developing program adaptations, improving cultural relevance of existing CDSME approved programs, and assisting with research and other needs to advance programs.

The administrative supplement for FY 2023 will be in the amount of $1,088,834, bringing the total award for FY 2023 to $3,088,834.

With this supplement, NCOA will be able to continue to work across the aging and disability network to enhance and expand existing CDSME efforts to increase the number of older adults and adults with disabilities who participate in evidence-based CDSME programs, and further embed CDSME programs in communities. The additional funding will not be used for projects or activities outside the scope of the approved award.

Program Name: National Chronic Disease Self-Management Education (CDSME) Resource Center.

Recipient: National Council on Aging (NCOA).

Period of Performance: The supplement award will be issued for the third year of a five-year project period of August 1, 2021, to July 31, 2026.

Total Award Amount: $3,088,834 in FY 2023.

Award Type: Cooperative Agreement Supplement.

Statutory Authority: The Older Americans Act, title IV; and the Patient Protection and Affordable Care Act, 42 U.S.C. 300u-11 (Prevention and Public Health Fund).

Basis for Award: National Council on Aging (NCOA) is currently funded through a cooperative agreement to carry out the objectives of the project entitled, National Chronic Disease Self-Management Education (CDSME) Resource Center for the period of August 1, 2021, through July 31, 2026. Since the project's implementation, the grantee has made significant progress toward its approved work plan. The supplement will enable the grantee to carry their work even further, enhancing the support they provide to the Aging Network. The additional funding will not be used to begin new projects or activities, but rather to enhance efforts.

NCOA is uniquely positioned to complete the work called for under this project. They have an already established infrastructure and are a known and trusted organization in the Aging Network. Prior to this current award, NCOA competed, and was awarded the National Chronic Disease Self-Management Education (CDSME) Resource Center for the past 7 years. Under the current award period, they are providing technical assistance and educational opportunities for the Aging Network's CDSME efforts, in partnership with a broad network of local and national agencies, to increase the number of older adults and adults with disabilities who participate in evidence-based CDSME and self-management support programs, and support the integration and sustainability of these programs within community integrated health networks. They have a comprehensive, interactive web-based repository (https://ncoa.org/professionals/health/center-for-healthy-aging/national-cdsme-resource-center) of tools and resources, including—best practices documents, issue briefs, and tip sheets based on identified needs and gaps in the network, CDSME program and fidelity guidance, educational learning modules and webinars via NCOA Connect (an online platform for learning and sharing among aging professionals), articles covering topics from program planning through sustainability, and videos. NCOA also hosts special events such as the Older Adult Mental Health Awareness Day symposium, the annual Age + Action Conference (a gathering of grantees, aging professionals and others with an interest in aging to share and explore solutions to ensure equitable aging for all), facilitates the Evidence-Based Program Review Process that identifies and approves new health promotion and disease programs for implementation across the network, and they maintain the national CDSME database that tracks the delivery and impact of CDSME programs across the country. They have reached thousands of consumers and aging services providers using their comprehensive database of SUAs, AAAs, and other CDSME stakeholders. Additionally, they have worked diligently to ensure that an inclusive range of partners are in place, engaged in the work, and committed to the success of chronic disease self-management education.

Establishing a separate but parallel grant project at this time could be potentially duplicative and disruptive to the current CDSME-related activities well under way. More importantly, it could cause confusion among the Aging Network and stakeholders, and negatively impact training, implementation, communication, and support opportunities. If this supplement were not provided, the project would be unable to address the significant unmet needs of the Aging Network to engage more older adults and adults with disabilities in evidence-based CDSME programs and embed these programs within communities so they are available and accessible over time.

Dated: May 2, 2023.
Alison Barkoff,
Acting Administrator and Assistant Secretary for Aging.

[FR Doc. 2023-09613 Filed 5-4-23; 8:45 am]

BILLING CODE 4154-01-P